Title 3—

The President

Proclamation 9863 of April 15, 2019

Education and Sharing Day, U.S.A., 2019

By the President of the United States of America

A Proclamation

A strong republic requires a people abounding in knowledge, which forges the character of the citizenry and its chosen representatives. Through study of the thoughts and discoveries of others, citizens enhance their shared understanding of who they are and who they want to be. Education and Sharing Day affords an important opportunity to reaffirm our belief that educational freedom is essential to our society and to the growth of individuals.

On this day, we recognize Rabbi Menachem Mendel Schneerson, the Lubavitcher Rebbe, whose very name signifies a spirit of comfort and compassion and a commitment to the betterment of America and the world. In the face of unspeakable tragedy, Rabbi Schneerson championed the teaching of principles of scholarship, justice, charity, and unity, launching an international movement that continues to contribute to the progress of humanity. The Rebbe believed that education is not only about the transmission of knowledge but that it is also integral to the formation of character. He sought to expand freedom in education while finding common ground with those of differing beliefs and backgrounds. His unfailing example offered those around him an opportunity to deepen their understanding of the inherent connections between knowledge, character, and freedom.

We must encourage institutions of higher learning to resist calls to stifle the open debate that is crucial to fostering freedom and social understanding. Genuine education depends on the free sharing of thought. That is why I recently signed an Executive Order to improve free inquiry, transparency, and accountability at colleges and universities.

Today, we honor the Rebbe's legacy by recommitting ourselves to embracing lifelong learning, defending freedom of expression, and upholding virtue. As Americans, let us strive to listen to each other's perspectives, learn from one another's experiences, and gain a deeper appreciation for the exchange of competing views to develop our character as citizens of a great republic.

NOW, THEREFORE, I, DONALD J. TRUMP, President of the United States of America, by virtue of the authority vested in me by the Constitution and the laws of the United States, do hereby proclaim April 16, 2019, as “Education and Sharing Day, U.S.A.” I call upon government officials, educators, volunteers, and all the people of the United States to observe this day with appropriate programs, ceremonies, and activities.

IN WITNESS WHEREOF, I have hereunto set my hand this fifteenth day of April, in the year of our Lord two thousand nineteen, and of the Independence of the United States of America the two hundred and forty-third.

[FR Doc. 2019-08064

4-18-19; 8:45 am]

Billing code 3295-F9-P